DEPARTMENT OF COMMERCE

National Oceanic and Atmospheric Administration

RIN 0648-XM13

U.S. Climate Change Science Program Draft Unified Synthesis Product: Global Climate Change Impacts in the United States

AGENCY: National Oceanic and Atmospheric Administration (NOAA), Department of Commerce.

ACTION: Notice of revision of the production schedule for the U.S. Climate Change Science Program Unified Synthesis Product.

SUMMARY: The National Oceanic and Atmospheric Administration publish this notice to announce plans to add a second public comment period for the U.S. Climate Change Science Program Unified Synthesis Product (USP). The peer review and first public comment period that ended on August 14, 2008 produced a large number of suggestions for improvements in the scientific completeness and readability of the USP. These comments have resulted in substantial revisions to the document, and a second draft is now being prepared for release in January 2009 for a 45-day public comment period. Another Federal Register Notice will be published announcing the start of the public comment period and will provide detailed instructions for accessing the revised document and submitting comments.

SUPPLEMENTARY INFORMATION: The CCSP was established by the President in 2002 to coordinate and integrate scientific research on global change and climate change sponsored by 13 participating departments and agencies of the U.S. Government. The CCSP is charged with preparing information resources that promote climate-related discussions and decisions, including scientific synthesis and assessment analyses that support evaluation of important policy issues.

Dated: December 8, 2008.
William J. Brennan,
Acting Under Secretary of Commerce for Oceans and Atmosphere, and Director, Climate Change Science Program.

[FR Doc. E8-29495 Filed 12-11-08; 8:45 am]

BILLING CODE 3510-12-S